INTERNATIONAL TRADE COMMISSION

[Inv. No. 337-TA-804]

In the Matter of Certain Led Photographic Lighting Devices and Components Thereof; Notice of Institution of Investigation; Institution of Investigation Pursuant to 19 U.S.C. 1337

AGENCY: U.S. International Trade Commission.

ACTION: Notice.

SUMMARY: Notice is hereby given that a complaint was filed with the U.S. International Trade Commission on August 3, 2011, under section 337 of the Tariff Act of 1930, as amended, 19 U.S.C. 1337, on behalf of Litepanels, Ltd. of the United Kingdom and Litepanels, Inc. of Van Nuys, California. Supplements to the Complaint were filed on August 24, and August 25, 2011. The complaint alleges violations of section 337 based upon the importation into the United States, the sale for importation, and the sale within the United States after importation of certain LED photographic lighting devices and components thereof by reason of infringement of certain claims of U.S. Patent No. 7,972,022 (“the `022 patent”); U.S. Patent No. 7,510,290 (“the `290 patent”); U.S. Patent No. 7,429,117 (“the `117 patent”); U.S. Patent No. 7,318,652 (“the `652 patent”); and U.S. Patent No. 6,948,823 (“the `823 patent”). The complaint further alleges that an industry in the United States exists as required by subsection (a)(2) of section 337.

The complainants request that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on August 30, 2011, ordered that—

(1) Pursuant to subsection (b) of section 337 of the Tariff Act of 1930, as amended, an investigation be instituted to determine whether there is a violation of subsection (a)(1)(B) of section 337 in the importation into the United States, the sale for importation, or the sale within the United States after importation of certain LED photographic lighting devices and components thereof that infringe one or more of claims 1 and 57-60 of the `022 patent; claims 9-26, 47, 51, 53-60, and 62 of the `290 patent; claims 1, 2, 5-13, 17-25, 28-35, 38-43, 45-47, and 50 of the `117 patent; claims 1, 2, 5, 7, 10, 11, 15-22, 24-34, and 37 of the `652 patent; claims 17-21, 23-29, 85-88, and 90-93 of the `823 patent, and whether an industry in the United States exists as required by subsection (a)(2) of section 337;

(2) For the purpose of the investigation so instituted, the following are hereby named as parties upon which this notice of investigation shall be served:

(a) The complainants are:

Litepanels, Ltd., 73 Western Way, Bury St Edmonds, Suffolk IP33 3TB;

United Kingdom, Litepanels, Inc., 16152 Saticoy Street, Van Nuys, CA 91406.

(b) The respondents are the following entities alleged to be in violation of section 337, and are the parties upon which the complaint is to be served:

Flolight, LLC, 26 Dillon Ave, Campbell, CA 95123;

Prompter People, Inc., 26 Dillon Ave, Campbell, CA 95123;

IKAN Corporation, 3903 Stoney Brook Drive, Houston, TX 77063;

Advanced Business Computer, Services, LLC, d/b/a Cool Lights USA, 5360 Capital Court, Suite 100, Reno, NV 89502;

Elation Lighting, Inc., 6122 S. Eastern Avenue, Los Angeles, CA 90040;

Fotodiox Inc., 91 Noll Street, Waukegan, IL 60085;

Fuzhou F&V Photographic, Equipment Co., Ltd., C Building, No. 71 Fuguang Road, Fuxing Industrial Development Zone, Fuzhou City, Fujian, 350015, China;

Yuyao Lishuai Photo-Facility Co., Ltd., No. 31 Rongchuang Road, Lizhou Industrial Zone, Lizhou District, Yuyao City, Zhejiang Province, China;

Yuyao Fotodiox Photo Equipment Co., Ltd., No. 31 Rongchuang Road, Lizhou Industrial Zone, Lizhou District, Yuyao City, Zhejiang Province, China;

Shantou Nanguang Photographic Equipment Co., Ltd., Wenhua Road Dongli Chenghai, Shantou City, Guangdong Province, China;

Visio Light, Inc., 7F, No. 249, Jian 1st Road, Jhong He City, Taipei, Taiwan;

Tianjin Wuqing Huanyu Film and TV Equipment Factory, Liudaokou Village, Chagugang Town Wuqing, Tianjin, China 301700;

Stellar Lighting Systems, 1500 Los Angeles, Suite 4, Los Angeles, CA 90015,

Yuyao Lily Collection Co., Ltd., No. 7 North Donghanmen Road, Yuyao, China 315400.

(c) The Office of Unfair Import Investigations, U.S. International Trade Commission, 500 E Street, SW., Suite 401, Washington, DC 20436; and

(3) For the investigation so instituted, the Chief Administrative Law Judge, U.S. International Trade Commission, shall designate the presiding Administrative Law Judge.

Pursuant to current Commission practice, following the filing of a new Complaint, the Secretary issues a Federal Register notice soliciting comments relating to the public interest from complainant, the proposed respondents, other interested parties, and members of the public. The purpose of the solicitation of comments is to enable the Commission to determine whether to delegate to the administrative law judge the taking of evidence related to the public interest. Such notice was not issued in this pre-institution proceeding until August 29, 2011. In order to allow the Commission the opportunity to review any comments concerning the public interest, the Commission reserves the right to delegate the issue of the public interest to the administrative law judge subsequent to instituting this investigation. The Commission will make its decision concerning whether to order the administrative law judge to take evidence on the public interest within one (1) week of issuance of this Notice of Institution.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: August 31, 2011.
James R. Holbein,
Secretary to the Commission.

[FR Doc. 2011-22798 Filed 9-6-11; 8:45 am]

BILLING CODE 7020-02-P